SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f):

1. Cabot Oil & Gas Corporation; Pad ID: BrooksW P1; ABR-20090701.R2; Springville Township, Susquehanna County, Pa.; Consumptive Use of Up to 5.0000 mgd; Approval Date: January 14, 2020.

2. Cabot Oil & Gas Corporation; Pad ID: HullR P1; ABR-20090702.R2; Springville Township, Susquehanna County, Pa.; Consumptive Use of Up to 5.0000 mgd; Approval Date: January 14, 2020.

3. Cabot Oil & Gas Corporation; Pad ID: Heitsman P1A; ABR-20090703.R2; Springville Township, Susquehanna County, Pa.; Consumptive Use of Up to 5.0000 mgd; Approval Date: January 14, 2020.

4. Cabot Oil & Gas Corporation; Pad ID: Gesford P2; ABR-20090705.R2; Dimock Township, Susquehanna County, Pa.; Consumptive Use of Up to 5.0000 mgd; Approval Date: January 14, 2020.

5. SWN Production Company, LLC; Pad ID: Carrar Pad Site; ABR-20090725.R2; Liberty Township, Susquehanna County, Pa.; Consumptive Use of Up to 3.0000 mgd; Approval Date: January 14, 2020.

6. Repsol Oil & Gas USA, LLC; Pad ID: DCNR 587 (02 002); ABR-20090811.R2; Ward Township, Tioga County, Pa.; Consumptive Use of Up to 3.0000 mgd; Approval Date: January 14, 2020.

7. Repsol Oil & Gas USA, LLC; Pad ID: DCNR 587 (02 004); ABR-20090812.R2; Ward Township, Tioga County, Pa.; Consumptive Use of Up to 3.0000 mgd; Approval Date: January 14, 2020.

8. Repsol Oil & Gas USA, LLC; Pad ID: DCNR 587 (02 017); ABR-20090932.R2; Ward Township, Tioga County, Pa.; Consumptive Use of Up to 3.0000 mgd; Approval Date: January 14, 2020.

9. Chief Oil & Gas, LLC; Pad ID: Teel Unit #1H; ABR-20091115.R2; Springville Township, Susquehanna County, Pa.; Consumptive Use of Up to 5.0000 mgd; Approval Date: January 14, 2020.

10. Range Resources—Appalachia, LLC; Pad ID: Cornwall 6H-8H; ABR-201407017.R1; Lewis Township, Lycoming County, Pa.; Consumptive Use of Up to 2.0000 mgd; Approval Date: January 14, 2020.

11. Chief Oil & Gas, LLC; Pad ID: S. A. Wilson Drilling Pad; ABR-201411001.R1; Overton Township, Bradford County, Pa.; Consumptive Use of Up to 2.5000 mgd; Approval Date: January 14, 2020.

12. Cabot Oil & Gas Corporation; Pad ID: Teel P7; ABR-20090704.R2; Springville Township, Susquehanna County, Pa.; Consumptive Use of Up to 5.0000 mgd; Approval Date: January 15, 2020.

13. Cabot Oil & Gas Corporation; Pad ID: LaRueC P1; ABR-20090706.R2; Dimock Township, Susquehanna County, Pa.; Consumptive Use of Up to 5.0000 mgd; Approval Date: January 15, 2020.

14. Cabot Oil & Gas Corporation; Pad ID: SmithR P2; ABR-20090707.R2; Springville Township, Susquehanna County, Pa.; Consumptive Use of Up to 5.0000 mgd; Approval Date: January 15, 2020.

15. SWEPI LP; Pad ID: 212 1H; ABR-20090727.R2; Charleston Township, Tioga County, Pa.; Consumptive Use of Up to 4.0000 mgd; Approval Date: January 16, 2020.

16. SWEPI LP; Pad ID: 235A 1H; ABR-20090728.R2; Sullivan Township, Tioga County, Pa.; Consumptive Use of Up to 4.0000 mgd; Approval Date: January 16, 2020.

17. SWEPI LP; Pad ID: Courtney 129 1H-2H; ABR-20090729.R2; Richmond Township, Tioga County, Pa.; Consumptive Use of Up to 4.0000 mgd; Approval Date: January 17, 2020.

18. SWEPI LP; Pad ID: Courtney H 255-1H; ABR-20090730.R2; Richmond Township, Tioga County, Pa.; Consumptive Use of Up to 4.0000 mgd; Approval Date: January 17, 2020.

19. Rockdale Marcellus, LLC; Pad ID: Palmer 112; ABR-20091006.R2; Canton Township, Bradford County, Pa.; Consumptive Use of Up to 2.0000 mgd; Approval Date: January 17, 2020.

20. SWEPI LP; Pad ID: Neal 134D; ABR-20090731.R2; Richmond Township, Tioga County, Pa.; Consumptive Use of Up to 4.0000 mgd; Approval Date: January 20, 2020.

21. SWEPI LP; Pad ID: Kipferl 261-1H; ABR-20090732.R2; Jackson Township, Tioga County, Pa.; Consumptive Use of Up to 4.0000 mgd; Approval Date: January 20, 2020.

22. Cabot Oil & Gas Corporation; Pad ID: GrimsleyJ P1; ABR-20090805.R2; Dimock Township, Susquehanna County, Pa.; Consumptive Use of Up to 3.5750 mgd; Approval Date: January 20, 2020.

23. Rockdale Marcellus, LLC; Pad ID: Fitch 115-1H; ABR-20091005.R2; Union Township, Tioga County, Pa.; Consumptive Use of Up to 2.0000 mgd; Approval Date: January 20, 2020.

24. Repsol Oil & Gas USA, LLC; Pad ID: KOHLER (02 191); ABR-202001001; Liberty Township, Tioga County, Pa.; Consumptive Use of Up to 6.0000 mgd; Approval Date: January 20, 2020.

25. Rockdale Marcellus, LLC; Pad ID: Bear Claw; ABR-202001002; McIntyre Township, Lycoming County, Pa.; Consumptive Use of Up to 4.0000 mgd; Approval Date: January 20, 2020.

26. EXCO Resources (PA), LLC; Pad ID: Bower Unit #1H Drilling Pad; ABR-20090815.R2; Penn Township, Lycoming County, Pa.; Consumptive Use of Up to 5.0000 mgd; Approval Date: January 22, 2020.

27. BKV Operating, LLC; Pad ID: Procter & Gamble Mehoopany Plant 2 1H; ABR-20091104.R2; Washington Township, Wyoming County, Pa.; Consumptive Use of Up to 5.0000 mgd; Approval Date: January 22, 2020.

28. BKV Operating, LLC; Pad ID: Procter and Gamble Mehoopany Plant 1V; ABR-20091014.R2; Washington Township, Wyoming County, Pa.; Consumptive Use of Up to 5.0000 mgd; Approval Date: January 22, 2020.

29. Cabot Oil & Gas Corporation; Pad ID: ColwellA P1; ABR-201408004.R1; Jackson Township, Susquehanna County, Pa.; Consumptive Use of Up to 4.2500 mgd; Approval Date: January 22, 2020.

30. EXCO Resources (PA), LLC; Pad ID: Warburton Unit #1H Drilling Pad; ABR-20090816.R2; Penn Township, Lycoming County, Pa.; Consumptive Use of Up to 5.0000 mgd; Approval Date: January 28, 2020.

31. ARD Operating, LLC; Pad ID: COP Tr 678 #1000H; ABR-20090820.R2; Noyes Township, Clinton County, Pa.; Consumptive Use of Up to 5.0000 mgd; Approval Date: January 28, 2020.

32. ARD Operating, LLC; Pad ID: COP Tr 678 #1001H & #1002H; ABR-20090821.R2; Noyes Township, Clinton County, Pa.; Consumptive Use of Up to 5.0000 mgd; Approval Date: January 28, 2020.

33. ARD Operating, LLC; Pad ID: Tx Gulf B #1H; ABR-20090822.R2; Beech Creek Township, Clinton County, Pa.; Consumptive Use of Up to 5.0000 mgd; Approval Date: January 28, 2020.

34. SWN Production Company, LLC; Pad ID: NR-23-FOUR BUCKS-PAD; ABR-201408005.R1; Great Bend Township, Susquehanna County, Pa.; Consumptive Use of Up to 4.0000 mgd; Approval Date: January 28, 2020.

35. Seneca Resources Company, LLC; Pad ID: D09-M; ABR-202001003; Jones Township, Elk County; and Sergeant Township, McKean County; Pa.; Consumptive Use of Up to 2.5000 mgd; Approval Date: January 28, 2020.

36. SWEPI LP; Pad ID: Smith 253 1H; ABR-20090825.R2; Sullivan Township, Tioga County, Pa.; Consumptive Use of Up to 4.0000 mgd; Approval Date: January 29, 2020.

37. Cabot Oil & Gas Corporation; Pad ID: FontanaC P1; ABR-201408009.R1; Bridgewater Township, Susquehanna County, Pa.; Consumptive Use of Up to 4.2500 mgd; Approval Date: January 29, 2020.

38. Cabot Oil & Gas Corporation; Pad ID: DysonW P1; ABR-201408010.R1; Springville Township, Susquehanna County, Pa.; Consumptive Use of Up to 4.2500 mgd; Approval Date: January 29, 2020.

39. Cabot Oil & Gas Corporation; Pad ID: LernerG P1; ABR-201408011.R1; Ararat Township, Susquehanna County, Pa.; Consumptive Use of Up to 4.2500 mgd; Approval Date: January 29, 2020.

(Authority: Pub. L. 91-575, 84 Stat. 1509 et seq., 18 CFR parts 806, 807, and 808)

Dated: March 16, 2020.
Jason E. Oyler,
General Counsel and Secretary to the Commission.

[FR Doc. 2020-05874 Filed 3-19-20; 8:45 am]

BILLING CODE 7040-01-P